INTERNATIONAL TRADE COMMISSION

[Investigation No. 731-TA-1418 (Preliminary)]

Steel Propane Cylinders From Taiwan; Termination of Investigation

AGENCY: United States International Trade Commission.

ACTION: Notice.

SUMMARY: On June 20, 2018, the Department of Commerce terminated its antidumping duty investigation of imports of steel propane cylinders from Taiwan, following petitioners' withdrawal of the petition and request that the investigation be terminated. Accordingly, the Commission is terminating its antidumping duty investigation concerning steel propane cylinders from Taiwan (Investigation No. 731-TA-1418 (Preliminary)).

DATES: June 26, 2018.

FOR FURTHER INFORMATION CONTACT: Lawrence Jones (202-205-3358), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

Authority: This investigation is being terminated under authority of title VII of the Tariff Act of 1930 and pursuant to section 207.40(a) of the Commission's Rules of Practice and Procedure (19 CFR 207.40(a)). This notice is published pursuant to section 201.10 of the Commission's rules (19 CFR 201.10).

By order of the Commission.
Dated: June 27, 2018.
Lisa Barton,
Secretary to the Commission.

[FR Doc. 2018-14232 Filed 7-2-18; 8:45 am]

BILLING CODE 7020-02-P